DEPARTMENT OF ENERGY

Federal Energy Regulatory Commission

Combined Notice of Filings #1

Take notice that the Commission received the following electric corporate filings:

Docket Numbers: EC12-96-000.

Applicants: Sierra Pacific Power Company.

Description: Application of Sierra Pacific Power Company for Order Authorizing Acquisition of Jurisdictional Facilities under FPA Section 203 and Request for Expedited Action.

Filed Date: 5/2/12.

Accession Number: 20120502-5203.

Comments Due: 5 p.m. ET 5/23/12.

Take notice that the Commission received the following exempt wholesale generator filings:

Docket Numbers: EG12-64-000.

Applicants: High Plains Ranch II, LLC.

Description: High Plains Ranch II, LLC—Notice of Self Certification of Exempt Wholesale Generator Status.

Filed Date: 5/3/12.

Accession Number: 20120503-5057.

Comments Due: 5 p.m. ET 5/24/12.

Take notice that the Commission received the following electric rate filings:

Docket Numbers: ER11-4105-001.

Applicants: Southwest Power Pool, Inc.

Description: Order No. 745 Compliance to be effective 12/31/9998.

Filed Date: 5/2/12.

Accession Number: 20120502-5189.

Comments Due: 5 p.m. ET 5/23/12.

Docket Numbers: ER12-1151-000.

Applicants: Pacific Gas and Electric Company.

Description: Compliance Refund Report for Marsh Landing E&P Agreement to be effective N/A.

Filed Date: 5/3/12.

Accession Number: 20120503-5003.

Comments Due: 5 p.m. ET 5/24/12.

Docket Numbers: ER12-1471-001.

Applicants: Canastota Windpower, LLC.

Description: Canastota Windpower, LLC submits tariff filing per 35.17(b): Canastota Windpower, LLC Amendment to Electric Tariff to be effective 5/4/2012.

Filed Date: 5/3/12.

Accession Number: 20120503-5097.

Comments Due: 5 p.m. ET 5/24/12.

Docket Numbers: ER12-1613-001.

Applicants: Hill Energy Resource & Services, LLC.

Description: Amendments to Hill Energy Resource & Services, LLC Electric Tariff to be effective 5/1/2012.

Filed Date: 5/3/12.

Accession Number: 20120503-5007.

Comments Due: 5 p.m. ET 5/24/12.

Docket Numbers: ER12-1706-000.

Applicants: NV Energy, Inc.

Description: Service Agreement No. 12-00030 Mt Wheeler Power NITS Agreement to be effective 6/1/2012.

Filed Date: 5/3/12.

Accession Number: 20120503-5000.

Comments Due: 5 p.m. ET 5/24/12.

Docket Numbers: ER12-1707-000.

Applicants: Liberty Power Wholesale Supply, LLC.

Description: Market-Based Rate Application to be effective 5/3/2012.

Filed Date: 5/3/12.

Accession Number: 20120503-5006.

Comments Due: 5 p.m. ET 5/24/12.

Docket Numbers: ER12-1708-000.

Applicants: Midwest Independent Transmission System Operator, Inc., ITC Midwest LLC.

Description: ITCM-Northern Iowa Windpower IA to be effective 7/3/2012.

Filed Date: 5/3/12.

Accession Number: 20120503-5034.

Comments Due: 5 p.m. ET 5/24/12.

Docket Numbers: ER12-1709-000.

Applicants: New York Independent System Operator, Inc., Niagara Mohawk Power Corporation.

Description: Agreement No. 1488, Niagara Mohawk and Selkirk Cogen Partners IA to be effective 4/1/2012.

Filed Date: 5/3/12.

Accession Number: 20120503-5042.

Comments Due: 5 p.m. ET 5/24/12.

Docket Numbers: ER12-1710-000.

Applicants: Southwest Power Pool, Inc.

Description: Submission of Notice of Cancellation—Service Agreements 2021R1 and 2022R1 to be effective 4/1/2012.

Filed Date: 5/3/12.

Accession Number: 20120503-5050.

Comments Due: 5 p.m. ET 5/24/12.

Docket Numbers: ER12-1711-000.

Applicants: High Plains Ranch II, LLC.

Description: High Plains Ranch II, LLC submits tariff filing per 35.12: Application for Market-Based Rate Authority to be effective 6/25/2012.

Filed Date: 5/3/12.

Accession Number: 20120503-5056.

Comments Due: 5 p.m. ET 5/24/12.

Docket Numbers: ER12-1712-000.

Applicants: ITC Midwest LLC.

Description: ITC Midwest LLC submits tariff filing per 35.13(a)(2)(iii: Filing of Agreements with MidAmerican Energy Company to be effective 7/3/2012.

Filed Date: 5/3/12.

Accession Number: 20120503-5084.

Comments Due: 5 p.m. ET 5/24/12.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 03, 2012.
Nathaniel J. Davis, Sr.,
Deputy Secretary.

[FR Doc. 2012-11372 Filed 5-10-12; 8:45 am]

BILLING CODE 6717-01-P